DEPARTMENT OF COMMERCE

Foreign-Trade Zones Board

[Order No. 1217]

Approval for Expansion of Subzone 124D LOOP LLC/LOCAP LLC (Crude Oil Pipeline and Storage System) LaFourche and St. James Parishes

Pursuant to its authority under the Foreign-Trade Zones Act of June 18, 1934, as amended (19 U.S.C. 81a-81u), the Foreign-Trade Zones Board (the Board) adopts the following Order:

Whereas, the South Louisiana Port Commission, grantee of FTZ 124, has requested authority on behalf of LOOP LLC/LOCAP LLC (LOOP), to include an additional site (Site 1, Parcel E) within Subzone 124D at the LOOP crude oil pipeline and storage system (FTZ Docket 24-2001, filed 6-14-01);

Whereas, notice inviting public comment has been given in the Federal Register (66 FR 33947, 6/26/01);

Whereas, the Board adopts the findings and recommendations of the examiner's report, and finds that the requirements of the FTZ Act and Board's regulations are satisfied, and that the proposal is in the public interest;

Now, therefore, the Board hereby orders:

The application to include an additional site within Subzone 124D at the crude oil pipeline and storage system of LOOP LLC/LOCAP LLC, is approved, subject to the FTZ Act and the Board's regulations, including Section 400.28.

Signed at Washington, DC, this 29th day of March 2002.
Faryar Shirzad,
Assistant Secretary for Import Administration, Alternate Chairman, Foreign-Trade Zones Board.
Dennis Puccinelli,
Executive Secretary.

[FR Doc. 02-8563 Filed 4-8-02; 8:45 am]

BILLING CODE 3510-DS-P